DEPARTMENT OF DEFENSE

Department of the Army; Corps of Engineers

Intent To Prepare a Draft Environmental Impact Statement for the L-31N Seepage Management Pilot Project

AGENCY: Department of the Army, U.S. Army Corps of Engineers, DoD.

ACTION: Notice of intent.

SUMMARY: The Jacksonville District, U.S. Army Corps of Engineers (Corps), intends to prepare an integrated Pilot Project Design Report (PPDR) and Draft Environmental Impact Statement (DEIS) for the L-3IN Seepage Management Pilot Project. The project is a cooperative effort between the Corps and the South Florida Water Management District (SFWMD), which is also a cooperating agency for this DEIS. L-31N is a levee-canal system running north-south and is located south of the Tamiami Canal in Miami-Dade County. One of the environmentally detrimental effects resulting from the construction of the Central and South Florida Project is extensive water seepage from Everglades National Park (ENP). This project will investigate seepage management technologies to control seepage from ENP. The pilot project will provide necessary information to determine the appropriate amount of wet season groundwater flow to return to ENP while minimizing potential impacts to Miami-Dade County's West Wellfield and freshwater flows to Biscayne Bay; results of the pilot project will be used in the full-scale project.

FOR FURTHER INFORMATION CONTACT: U.S. Army Corps of Engineers, Planning Division, Environmental Branch, P.O. Box 4970, Jacksonville, FL, 32232-0019; Attn: Ms. Janet Cushing or by telephone at 904-232-2259 or email: janet.a.cushing@usace.army.mil.

SUPPLEMENTARY INFORMATION: a. Authorization: Section 601 of the Water Resources Development Act of 2000 (Pub. L. 106-541) authorized the implementation of the L-31N Pilot Project.

b. Study Area: The study area is along a portion of L-31N north of structure G-211, and the southern portion of L-30 just north of C-4 (Tamiami Canal), in Miami-Dade County.

c. Project Scope: The scope is to investigate seepage management technologies to control seepage from ENP and use the resulting data in the full-scale implementation of the proposed project features along the entire length of L-31N. The evaluation of alternatives and selection of a recommended plan will be documented in the PPDR and EIS.

d. Preliminary Alternatives: Technologies to be tested may include reducing levee seepage flow across L-31N via a levee cutoff wall and reducing groundwater flows during the wet season by capturing the groundwater with a series of wells adjacent to L-31N, then back-pumping the water to ENP.

e. Issues: The EIS will address the following issues; the relation between this project and related projects including Modified Water Deliveries to ENP; impacts to Miami-Dade West Wellfield and Biscayne Bay, impacts to aquatic and wetland habitats; water flows; hazardous and toxic waste; water quality; flood protection; the impacts of land acquisition on the tax base; aesthetics and recreation; fish and wildlife resources, including protected species; cultural resources; and other impacts identified through scoping, public involvement and interagency coordination.

f. Scoping: A scoping letter and public workshops will be used to invite comments on alternatives and issues from Federal, State, and local agencies, affected Indian tribes, and other interested private organizations and individuals. The next public worksop is scheduled for July 2002; more information about the workshop will be in the scoping letter.

g. DEIS Preparation: The integrated draft PPDR, including a DEIS, is currently scheduled for publication in November 2004.

Dated: June 18, 2002.
James C. Duck,
Chief, Planning Division.

[FR Doc. 02-16380 Filed 6-27-02; 8:45 am]

BILLING CODE 3710-AJ-M